COMMISSION ON CIVIL RIGHTS

Agenda and Notice of Public Meetings of the Delaware Advisory Committee

AGENCY: Commission on Civil Rights.

ACTION: Announcement of public meetings.

SUMMARY: Notice is hereby given, pursuant to the provisions of the rules and regulations of the U.S. Commission on Civil Rights (Commission), and the Federal Advisory Committee Act (FACA), that the Delaware State Advisory Committee to the Commission will hold six, two-hour virtual panel briefings to discuss the COVID-19 medical disparities—testing, infections, treatment, vaccinations and other factors—experienced by people of color in Delaware and the social determinants for such disparities. The six virtual panel presentations are all titled, COVID-19 Medical Disparities and the Social Determinants for those Disparities that Affect People of Color in Delaware. There are two two-hour morning and afternoon virtual panel briefings at 11:00 a.m. (ET) and again at 2: 00 p.m. ET, respectively, on Wednesday, March 23, 2022, and Monday, March 28, 2022. Two-hour virtual briefings are also scheduled on Wednesday, March 30, 2022, at 11:00 a.m. (ET) and Friday, April 1, 2022, at 1:00 p.m. (ET), respectively.

Dates and How To Join the Meetings

Wednesday, March 23, 2022, at 11:00 a.m. (ET)

• To join by web conference: https://tinyurl.com/bdzf77mb

• To join by phone only, dial 1-800-360-9505; Access code: 2764 584 3838#

Wednesday, March 23, 2022, at 2:00 p.m. (ET)

• To join by web conference: https://tinyurl.com/3fexevty

• To join by phone only, dial 1-800-360-9505; Access code: 2762 497 4740#

Monday, March 28, 2022, at 11:00 a.m. (ET)

• To join by web conference: https://tinyurl.com/55z58sy8

• To join by phone only, dial 1-800-360-9505; Access code: 2762 803 0597#

Monday, March 28, 2022, at 2:00 p.m. (ET)

• To join by web conference: https://tinyurl.com/54utjtw4

• To join by phone only, dial 1-800-360-9505; Access code: 2763 073 3320#

Wednesday, March 30, 2022, at 11:00 a.m. (ET)

• To join by web conference: https://tinyurl.com/mr37pmuj

• To join by phone only, dial 1-800-360-9505; Access code: 2763 511 0806#

Friday, April 1, 2022, at 1:00 p.m. (ET)

• To join by web conference: https://tinyurl.com/2p8atzaw

• To join by phone only, dial 1-800-360-9505; Access code: 2763 511 0806#

FOR FURTHER INFORMATION CONTACT: Ivy Davis at ero@usccr.gov or by phone at (202) 539-8468.

SUPPLEMENTARY INFORMATION: Each meeting is available to the public through the WebEx links above and all participants will be asked to register before being admitted into the meeting. Registration is requested so that agency staff can keep registrants informed about the Committee's activities, including its planned report. If joining only via phone, callers can expect to incur charges for calls they initiate over wireless lines, and the Commission will not refund any incurred charges. Individuals who are deaf, deafblind and hard of hearing. may also follow the proceedings by first calling the Federal Relay Service at 1-800-877-8339 and providing the Service with the call-in number found through registering at the web link provided for this meeting.

Immediately after each two- hour panel presentation, members of the public are entitled to make brief comments of approximately five minutes during the Public Comment portion of the agenda. Members of the public may also submit written comments; the written comments must be emailed to the Eastern Regional Office within 30 days following the meeting. Written comments may be emailed to: Ivy Davis at ero@usccr.gov. Persons who desire additional information may contact the Regional Programs Unit at (202) 539-8468. Records and documents discussed during the meeting will be available for public viewing as they become available at www.facadatabase.gov. Persons interested in the work of this advisory committee are advised to go to the Commission's website, www.usccr.gov, or to contact the Regional Programs Unit at the above email address or phone number.

Agenda Briefings

This is the agenda for each of the six virtual panel presentations.

I. Roll Call

II. Welcome

III. Virtual Panel Presentations

IV. Public Comment

V. Closing Remarks

VI. Adjourn

Exceptional Circumstance: Pursuant to 41 CFR 102-3.150, the notice for this meeting is given less than 15 calendar days prior to the meeting because of the exceptional circumstances of the immediacy of the subject matter.

Dated: March 11, 2022.
David Mussatt,
Supervisory Chief, Regional Programs Unit.

[FR Doc. 2022-05613 Filed 3-16-22; 8:45 am]

BILLING CODE P